DEPARTMENT OF COMMERCE

National Oceanic and Atmospheric Administration

[I.D. 011905A]

Fisheries of the Gulf of Mexico; Southeastern Data, Assessment, and Review Gulf of Mexico Red Snapper Workshops

AGENCY: National Marine Fisheries Service (NMFS), National Oceanic and Atmospheric Administration (NOAA), Commerce.

ACTION: Notice of the Southeastern Data, Assessment, and Review Gulf of Mexico Red Snapper (SEDAR) Review Workshop for Gulf of Mexico Red Snapper.

SUMMARY: The SEDAR process for the Gulf of Mexico red snapper consists of a series of three workshops: a data workshop, an assessment workshop, and a review workshop. The data and assessment workshops are completed. This document announces the schedule for the review workshop.

DATES: The review workshop will be held on April 4-7, 2005. The workshop may adjourn on or before April 7, 2005, at 6 p.m.

ADDRESSES: Workshop address: The review workshop will be held at the Country Inn and Suites, 315 Magazine Street, New Orleans, LA 70130; phone: (504)324-5400.

Council address: Gulf of Mexico Fishery Management Council (GMFMC), 3018 North U.S. Highway 301, Suite 1000, Tampa, FL 33619.

GMFMC e-mail address: gulfcouncil@gulfcouncil.org.

FOR FURTHER INFORMATION CONTACT: Mr. Steven Atran or Mr. Stu Kennedy, 813-228-2815 or 888-833-1844.

SUPPLEMENTARY INFORMATION:

Data and Assessment Workshops

The Gulf of Mexico, South Atlantic, and Caribbean Fishery Management Councils, in conjunction with NOAA Fisheries and the Atlantic and Gulf States Marine Fisheries Commissions, have implemented the Southeast Data, Assessment and Review (SEDAR) process, a multi-step method for determining the status of fish stocks in the Southeast Region. SEDAR includes three workshops: (1) data workshop, (2) assessment workshop, and (3) review workshop. The product of the data workshop and the assessment workshop is a stock assessment report, which describes the fisheries, evaluates the status of the stock, estimates biological benchmarks, projects future population conditions, and recommends research and monitoring needs. The assessment report is independently peer reviewed at the review workshop.

Review Workshop

The review workshop is an independent peer review of the assessment developed during the data and assessment workshops. Workshop panelists will review the assessment and produce a SEDAR Consensus Summary Report to document their consensus opinions and comments.

The products of the review workshop are a Consensus Summary Report, which reports Panel opinions regarding the strengths and weaknesses of the stock assessment and input data, and an Advisory Report, which summarizes the status of the stock. Participants for SEDAR workshops are appointed by the Regional Fishery Management Councils. Participants include data collectors, database managers, stock assessment scientists, biologists, fisheries researchers, fishermen, environmentalists, Council members, International experts, and staff of Councils, Commissions, and state and federal agencies.

Special Accommodations

These meetings are physically accessible to people with disabilities. Requests for sign language interpretation or other auxiliary aids should be directed to the Gulf of Mexico Fishery Management Council office (see ADDRESSES) at least five business days prior to each workshop.

Dated: January 19, 2005.
Emily Menashes,
Acting Director, Office of Sustainable Fisheries, National Marine Fisheries Service.

[FR Doc. 05-1459 Filed 1-26-05; 8:45 am]

BILLING CODE 3510-22-S